DEPARTMENT OF THE INTERIOR

Bureau of Land Management

[17XL5017AP LLUTG01100 L51010000.ER0000.LVRWJ17J8060]

Notice of Availability of the Final Environmental Impact Statement for the Enefit American Oil Utility Corridor Project, Uintah County, Utah

AGENCY: Bureau of Land Management, Interior.

ACTION: Notice.

SUMMARY: In accordance with the National Environmental Policy Act of 1969, as amended (NEPA), and the Federal Land Policy and Management Act of 1976, as amended (FLPMA), the Bureau of Land Management (BLM) has prepared a final Environmental Impact Statement (EIS) for the Enefit American Oil Utility Corridor Project (Utility Corridor Project) and is announcing a 45-day wait period before making any final decisions.

DATES: The BLM will not issue a final decision on the proposal for a minimum of 45 days after the date on which the Environmental Protection Agency (EPA) publishes its Notice of Availability (NOA) of the final EIS in the Federal Register.

ADDRESSES: Copies of the Enefit American Oil Utility Corridor Project final EIS are available for public inspection in the BLM Vernal Field Office at 170 South 500 East Vernal, Utah 84078. Interested persons may also review the final EIS on the internet at http://go.usa.gov/csa9j.

FOR FURTHER INFORMATION CONTACT: Stephanie Howard, NEPA Coordinator; telephone 435-781-4469; address 170 South 500 East Vernal, Utah 84078; email BLM_UT_Vernal_Comments@blm.gov. Persons who use a Telecommunications Device for the Deaf (TDD) may call the Federal Relay Service (FRS) at 1-800-877-8339 to contact the above individual during normal business hours. The FRS is available 24 hours a day, 7 days a week, to leave a message or question with the above individual. You will receive a reply during normal business hours.

SUPPLEMENTARY INFORMATION: Enefit American Oil (Enefit) submitted five right-of-way applications to the BLM which are collectively known as the Utility Corridor Project. The Project Area is located in the southern portion of Townships 8-10 South, Ranges 24-25 East, Salt Lake Meridian, in Uintah County, Utah, approximately 40 miles south of Vernal, Utah. The entire project area is located within the original extent of the Uinta and Ouray Reservation.

The purpose of this Federal action is to respond to the applicant's right-of-way applications for construction, operation, and maintenance of the Utility Corridor Project infrastructure across Federal land. FLPMA provides the BLM with discretionary authority to grant use of public lands, including rights-of-way, taking into consideration impacts on natural, cultural, and historical resources.

The BLM is the lead Federal agency for this EIS as defined at 40 Code of Federal Regulations (CFR) Part 1501.5. Cooperating agencies include the U.S. EPA Region 8, the U.S. Army Corps of Engineers Utah Regulatory Office, the U.S. Fish and Wildlife Service (USFWS) Utah Field Office, the State of Utah's Public Lands Policy and Coordination Office, and Uintah County. In accordance with NEPA, the BLM prepared an EIS analyzing the right-of-way applications using an interdisciplinary approach in order to consider a variety of resource issues and concerns identified during internal, interagency, and public scoping. On April 8, 2016, the BLM published in the Federal Register (81 FR 20671) a NOA of the Draft EIS for public review and comment. The EPA published in the Federal Register (81 FR 22263) a NOA of the draft EIS for public review and comment on April 15, 2016, which initiated the 60-day public comment period. To allow the public an opportunity to review information associated with the utility corridor project and comment on the draft EIS, the BLM conducted three open-house meetings in May 2016 in Vernal and Salt Lake City, Utah and in Rangely, Colorado. During the comment period, the BLM received 69 comment letters on the draft EIS from Federal, State, and local agencies; public and private organizations; and individuals. In addition, approximately 15,500 form letters were sent to the BLM from various organizations. Additional comments from a special interest group were submitted after the comment period closed, but were included in the comment response effort, bringing the total of unique comment submittals to 70. The 70 comment submittals contained 241 substantive comments. Principal issues identified in the comments received by BLM included: Utility corridor project description, alternatives considered, air quality, and impacts on sensitive plant species.

The BLM responded to comments received on the draft EIS in the final EIS. As a result of the comments, the presentation order of the EIS has been changed to clarify the project description and resulting impacts. No significant new information was identified that necessitated a supplemental draft EIS.

The final EIS describes and analyzes the impacts of the utility corridor project and the No Action Alternative. The following is a summary of the alternatives:

Proposed Action—The proposed action consists of five right-of-way applications: 19 Miles of water supply line (116 acres); 8.8 miles of buried natural gas supply line (52.6 acres); 11.2 miles of buried oil product line (68.3 acres); 5.7 miles of Dragon Road upgrade and pavement (41.7 acres); and 30 miles of 138-kV power lines (501.4 acres). The proposed action also includes the utilization of some temporary lay-down areas during construction of the pipelines (31.2 acres).

No Action Alternative—Under the No Action Alternative, the right-of-way applications listed in the Proposed Action Alternative would be denied.

The final EIS contains detailed analysis of direct and indirect impacts from the Proposed Action to: Air quality including greenhouse gases, soils including biological soils, vegetation including weeds, minerals, surface waters, wildlife, special status plants and animals, cultural, paleontological, and visual resources as well as lands and access, recreation and travel management, and local social and economic resources.

After the final waiting period, and based on the environmental analysis in the final EIS, the BLM will prepare a Record of Decision (ROD) documenting the BLM Authorized Officer's decision whether to authorize, authorize with modifications, or deny the applications.

Authority: 40 CFR 1506.6, 40 CFR 1506.10.

Edwin L. Roberson,
State Director.

[FR Doc. 2018-10573 Filed 5-17-18; 8:45 am]

BILLING CODE 4310-DQ-P